SOCIAL SECURITY ADMINISTRATION

Agency Information Collection Activities: Proposed Request and Comment Request

The Social Security Administration (SSA) publishes a list of information collection packages that will require clearance by the Office of Management and Budget (OMB) in compliance with Pub. L. 104-13, the Paperwork Reduction Act of 1995, effective October 1, 1995. The information collection packages that are included in this notice are for approvals of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB) Office of Management and Budget, Attn: Desk Officer for SSA, Fax: 202-395-6974.

(SSA) Social Security Administration, DCFAM, Attn: Reports Clearance Officer, 1333 Annex Building, 6401 Security Blvd., Baltimore, MD 21235. Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Request for Hearing by Administrative Law Judge—20 CFR 404.929, 404.933, 416.1429, 404.1433, 405.722, 418.1350—0960-0269. SSA uses form HA-501 to document when applicants for Social Security benefits have their claims denied and want to request an administrative hearing to appeal SSA's decision. The scope of this form is now being expanded to include people who wish to appeal the decision that has been made regarding their obligation to pay a new Income-Related Monthly Adjustment Amount (IRMAA) for Medicare Part B, as per the requirements of the Medicare Modernization Act of 2003. Although this information will be collected by SSA, the actual hearings will take place before administrative law judges (ALJ) who are employed by the Department of Health and Human Services (HHS). The current respondents include applicants for various Social Security benefits programs who want to request a hearing where they can appeal their denial; the new additional respondents are Medicare Part B recipients whom SSA has determined will have to pay the new Medicare Part B IRMAA and who wish to appeal this decision at a hearing before an HHS ALJ.

Type of Request: Revision to an OMB-approved information collection.

Number of Respondents: 669,469.

Frequency of Response: 1.

Average Burden Per Response: 10 minutes.

Estimated Annual Burden: 111,578 hours.

2. Pain Report Child—20 CFR 416.912 and 416.1512—0960-0540. The information collected by form SSA-3371-BK will be used to obtain the types of information specified in SSA's regulations, and to provide disability interviewers (and applicants/claimants in self-help situations) with a convenient means of recording the information. This information is used by the State disability determination services (DDS) adjudicators and administrative law judges to assess the effects of symptoms on functionality for determining disability under the Social Security Act. The respondents are applicants for Supplemental Security Income (SSI) benefits.

Type of Request: Extension of an OMB-approved information collection.

Number of Respondents: 250,000.

Frequency of Response: 1.

Average Burden Per Response: 15 minutes.

Estimated Annual Burden: 62,500 hours.

3. Request to Resolve Questionable Quarters of Coverage (QC); Request for QC History Based on Relationship—0960-0575. Form SSA-512 is used by states to request clarification from SSA on questionable QC information. The Personal Responsibility and Work Opportunity Reconciliation Act states that aliens admitted for lawful residence that have worked and earned 40 qualifying QCs for Social Security purposes can generally receive state benefits. Form SSA-513 is used by states to request QC information for an alien's spouse or child in cases where the alien does not sign a consent form giving permission to access his/her Social Security records. QCs can also be allocated to a spouse and/or to a child under age 18, if needed, to obtain 40 qualifying QCs for the alien. The respondents are state agencies that require QC information in order to determine eligibility for benefits.

Type of Request: Extension of an OMB-approved information collection.

Collections | Number of respondents | Frequency of response | Average burden per response (minute) | Estimated annual burden (hours)
SSA-512 | 200,000 | 1 | 2 | 6,667
SSA-513 | 350,000 | 1 | 2 | 11,667
Totals | 550,000 |  |  | 18,334

4. Application of Circuit Court Law—20 CFR 404.985 & 416.1458—0960-0581. Under SSA regulations persons may requests re-adjudication on the basis that the application of an acquiescence ruling (AR) would change a prior determination or decision. We will use the information provided to determine whether they are entitled to re-adjudication of their claims in accordance with these regulations. We will review the available information in the requests to determine whether the issue(s) stated in the AR pertains to the claimant's case. If re-adjudication is appropriate, we will consider only those issue(s) covered by the AR. Any new determination or decision will be subject to administrative or judicial review in accordance with our regulations. Individuals who request re-adjudication are claimants for Social Security benefits and Supplemental Security Income payments.

Type of Request: Extension of an OMB-approved information collection.

Number of Respondents: 10,000.

Frequency of Response: 1.

Average Burden Per Response: 17 minutes.

Estimated Annual Burden: 2,833 hours.

5. Certificate of Support—20 CFR 404.370, 404.750, 404.408a—0960-0001. The information collected on the SSA-760-F4 is used to determine whether the parent of a deceased worker or the spouse meets the one-half support requirement specified in SSA regulations. Respondents are parents of deceased workers, or spouses who may qualify for an exception to Government Pension Offset.

Type of Request: Revision of an OMB-approved information collection.

Number of Respondents: 18,000.

Frequency of Response: 1.

Average Burden Per Response: 15 minutes.

Estimated Annual Burden: 4,500 hours.

6. Child Relationship Statement—20 CFR 404.355 & 404.731—0960-0116. The information collected on the SSA-2519 is used to help determine the entitlement of children to Social Security benefits under section 216(h)(3) of the Social Security Act (deemed child provision). Respondents are persons with knowledge of the relationship between the number holder and his/her alleged biological child who is filing for benefits.

Type of Request: Revision of an OMB-approved information collection.

Number of Respondents: 50,000.

Frequency of Response: 1.

Average Burden Per Response: 15 minutes.

Estimated Annual Burden: 12,500 hours.

7. Substitution of Party Upon Death of Claimant—20 CFR 404.957(c)(4) & 416.1457(c)(4)—0960-0288. The HA-539 is used to collect information from any individual who asks to be made a substitute party for a claimant for either Social Security benefits or Supplemental Security Income payments who dies while his or her request for a hearing is pending. This information is needed and used by SSA to afford these individuals their statutory right to a hearing and decision under the Social Security Act. Respondents are individuals requesting to proceed with hearings as substitute parties for deceased claimants for Social Security benefits or Supplemental Security Income payments.

Type of Request: Extension of an OMB-approved information collection.

Number of Respondents: 4,320.

Frequency of Response: 1.

Average Burden Per Response: 5 minutes.

Estimated Annual Burden: 432 hours.

8. Statement for Determining Continuing Eligibility, Supplemental Security Income Payment(s)—20 CFR Subpart B, 416.204—0960-0416. SSA uses the information collected on form SSA-8203-BK for high-error-profile (HEP) redeterminations of disability to determine whether SSI recipients have met and continue to meet all statutory and regulatory requirements for SSI eligibility and whether they have been, and are still receiving, the correct payment amount. The information is normally completed in field offices by personal contact (face-to-face or telephone interview) using the automated Modernized SSI Claim System (MSSICS). The respondents are recipients of Title XVI benefits.

Type of Request: Revision of an OMB-approved information collection.

Collection method | Number of respondents | Frequency of response | Average burden per response (minutes) | Estimated annual burden hours
MISSICS | 109,012 | 1 | 20 | 36,337
MISSICS/Signature Proxy | 36,338 | 1 | 19 | 11,507
Paper | 25,650 | 1 | 20 | 8,550
Totals | 171,000 |  |  | 56,394

9. Physical Residual Functional Capacity Assessment and Mental Residual Functional Capacity Assessment—20 CFR 404.1545-404.1546 & 416.945-416.946—0960-0431. The information collected on form SSA-4734-BK and SSA-4734-F4-SUP is needed by SSA to assist in the adjudication of disability claims involving physical and/or mental impairments. The forms assist the State DDS offices to evaluate the severity of impairments by providing standardized data collection forms. The use of these forms by the DDSs ensures nationally consistent evaluations presented in a concise, clear and readily understandable manner. The respondents are primarily doctors in DDSs funded and administered by SSA.

Type of Request: Extension of an OMB-approved information collection.

Number of Respondents: 2,397,646.

Frequency of Response: 1.

Average Burden Per Response: 20 minutes.

Estimated Annual Burden: 799,215 hours.

The information collections listed below have been submitted to OMB for clearance. Your comments on the information collections would be most useful if received by OMB and SSA within 30 days from the date of this publication. You can obtain a copy of the OMB clearance packages by calling the SSA Reports Clearance Officer at 410-965-0454, or by writing to the address listed above.

1. Representative Payee Report of Benefits and Dedicated Account—20 CFR 416.546, 416.635, 416.640, 416.665—0960-0576. The Social Security Act provides for representative payees (RPs) to submit a written report accounting for the use of money paid to SSI recipients, and that RPs must establish and maintain a dedicated account for these payments. The SSA-6233 is used to ensure that the RP is using the benefits received for the beneficiary's current maintenance and personal needs, and the expenditures of funds from the dedicated account are in compliance with the law. Respondents are representative payees for SSI recipients.

Type of Request: Extension of an OMB-approved information collection.

Number of Respondents: 30,000.

Frequency of Response: 1.

Average Burden Per Response: 20 minutes.

Estimated Annual Burden: 10,000 hours.

Dated: December 11, 2006.
Elizabeth A. Davidson,
Reports Clearance Officer, Social Security Administration.

[FR Doc. E6-21364 Filed 12-14-06; 8:45 am]

BILLING CODE 4191-02-P